DEPARTMENT OF HEALTH AND HUMAN SERVICES

Health Resources and Service Administration

Meeting of the National Advisory Council on Migrant Health

AGENCY: Health Resources and Service Administration (HRSA), Department of Health and Human Services (HHS).

ACTION: Notice of meeting.

SUMMARY: In accordance with the Federal Advisory Committee Act, notice is hereby given that a meeting is scheduled for the National Advisory Council on Migrant Health (NACMH/Council). This meeting will be open to the public. The agenda for the NACMH meeting can be obtained by contacting the Designated Federal Officer (DFO) or accessing the Council Web site: https://bphc.hrsa.gov/qualityimprovement/strategicpartnerships/nacmh/index.html.

DATES: The meeting will be held on June 6, 2017, 8:30 a.m.to 5:00 p.m. and June 7, 2017, 8:30 a.m. to 5:00 p.m.

ADDRESSES: The address for the meeting is Bethesda North Marriott Hotel & Conference Center, 5701 Marinelli Road, North Bethesda, Maryland 20852, (301) 822-9200.

FOR FURTHER INFORMATION CONTACT: All requests for information regarding the NACMH should be sent to Esther Paul, DFO, NACMH, HRSA, in one of three ways: (1) Send a request to the following address: Esther Paul, Office of Policy and Program Development, Bureau of Primary Health Care, HRSA, 5600 Fishers Lane, 16N38B, Rockville, Maryland 20857; (2) call (301) 594 4300; or (3) send an email to epaul@hrsa.gov.

SUPPLEMENTARY INFORMATION: The NACMH is a non-discretionary advisory body mandated by the Public Health Service (PHS) Act, Title 42 U.S.C. 218, to advise, consult with, and make recommendations to the Secretary of HHS and the Administrator of HRSA regarding the organization, operation, selection, and funding of migrant health centers and other entities funded under section 330(g) of the PHS Act (42 U.S.C. 254b). The NACMH Charter requires that the Council meet at least twice per year to discuss services and issues related to the health of migrant and seasonal agricultural workers and their families and to formulate their recommendations to the HHS Secretary and HRSA Administrator. The agenda includes an overview of the Council's general business activities. The Council will also hear presentations from Federal officials and experts on agricultural worker issues, including the status of agricultural worker health at the local and national levels. Agenda items are subject to change as priorities indicate.

Public Participation: Members of the public will not be able to provide oral comments during the meeting. Please provide any written questions or comments for the NACMH to the DFO using the address and phone number provided above by May 23, 2017. Individuals who plan to attend the meeting and need special assistance, such as sign language interpretation or other reasonable accommodations, should notify the DFO at least 10 days prior to the meeting.

Jason E. Bennett,
Director, Division of the Executive Secretariat.

[FR Doc. 2017-09329 Filed 5-8-17; 8:45 am]

BILLING CODE 4165-15-P